DEPARTMENT OF LABOR

Employment and Training Administration

[TA-W-55,371]

Ace Products, Inc., Lineville, AL; Notice of Termination of Investigation

Pursuant to Section 221 of the Trade Act of 1974, as amended, an investigation was initiated on August 4, 2004, in response to a worker petition filed by a company official on behalf of workers at Ace Products, Inc., Lineville, Alabama.

The petitioner has requested that the petition be withdrawn. Consequently, further investigation would serve no purpose and the investigation has been terminated.

Signed at Washington, DC, this 30th day of August, 2004.
Elliott S. Kushner,
Certifying Officer, Division of Trade Adjustment Assistance.

[FR Doc. E4-2308 Filed 9-21-04; 8:45 am]

BILLING CODE 4510-30-P